ENVIRONMENTAL PROTECTION AGENCY

[Docket #: ID-04-004; FRL-7815-1]

Adequacy Status of the Portneuf Valley, Pocatello, ID Submitted Particulate Matter (PM10) Maintenance Plan for Transportation Conformity Purposes

AGENCY: Environmental Protection Agency (EPA).

ACTION: Notice of adequacy.

SUMMARY: In this notice, EPA is notifying the public that we have found the submitted motor vehicle emissions budgets for PM10 in the Moderate Portneuf Valley, Pocatello, Idaho PM10 Maintenance Plan (Maintenance Plan) are adequate for transportation conformity purposes. On March 2, 1999, the D.C. Circuit Court ruled that submitted SIPs cannot be used for conformity determinations until EPA has affirmatively found them adequate. As a result of this adequacy finding, the Bannock Planning Organization, Idaho Transportation Department, and the Federal Highway Administration are required to use the motor vehicle emissions budgets from this submitted Maintenance Plan for future conformity determinations.

DATES: This finding is effective October 4, 2004.

FOR FURTHER INFORMATION CONTACT: The finding is available at EPA's conformity Web site: http://www.epa.gov/otaq/transp.htm, (once there, click on the “Transportation Conformity” button, then look for “Adequacy Review of SIP Submissions”). You may also contact Wayne Elson, U.S. EPA, Region 10, Office of Air, Waste, and Toxics (AWT-107), 1200 Sixth Ave, Seattle WA 98101; (206) 553-1463 or elson.wayne@epa.gov.

SUPPLEMENTARY INFORMATION:

Background

Today's notice is simply an announcement of a finding that we have already made. EPA Region 10 sent a letter to Idaho Department of Environmental Quality on August 31, 2004, stating that the motor vehicle emissions budgets in the Maintenance Plan are adequate.

Transportation conformity is required by section 176(c) of the Clean Air Act. EPA's conformity rule requires that transportation plans, programs, and projects conform to state air quality implementation plans (SIPs) and establishes the criteria and procedures for determining whether or not they do. Conformity to a SIP means that transportation activities will not produce new air quality violations, worsen existing violations, or delay timely attainment of the national ambient air quality standards.

The criteria by which we determine whether a SIP's motor vehicle emission budget is adequate for conformity purposes are outlined in 40 CFR 93.118(e)(4). Please note that an adequacy review is separate from EPA's completeness review and it also should not be used to prejudge our ultimate approval of the SIP. Even if we find a budgets adequate, the SIP could later be disapproved.

We have described our process for determining the adequacy of submitted SIP budgets in guidance (May 14, 1999 memo titled “Conformity Guidance on Implementation of March 2, 1999 Conformity Court Decision”). We followed this guidance in making our adequacy determination. For the reader's ease, we have excerpted the motor vehicle emission budgets from the Maintenance Plan. The budgets in tons per year are as follows:

Year | Particulate matter PM10 | Nitrogen oxides | Volatile organic compounds
2005 | 897 | 1,575 | 983
2010 | 1,120 | 1,085 | 716
2020 | 1,364 | 514 | 585

Authority: 42 U.S.C. 7401-7671q.

Dated: September 8, 2004.
Julie Hagensen,
Acting Regional Administrator, Region 10.

[FR Doc. 04-20975 Filed 9-16-04; 8:45 am]

BILLING CODE 6560-50-P